DEPARTMENT OF ENERGY

Federal Energy Regulatory Commission

Combined Notice of Filings #1

Take notice that the Commission received the following electric rate filings:

Docket Numbers: ER17-424-008.

Applicants: Footprint Power Salem Harbor Development LP.

Description: Notice of Non-Material Change in Status of Footprint Power Salem Harbor Development LP.

Filed Date: 1/4/21.

Accession Number: 20210104-5282.

Comments Due: 5 p.m. ET 1/25/21.

Docket Numbers: ER17-1531-004.

Applicants: CPV Fairview, LLC.

Description: Errata to June 30, 2020 Market Power Update of CPV Fairview, LLC.

Filed Date: 12/16/2020.

Accession Number: 20201216-5085.

Comment Date: 5 p.m. ET 1/26/21.

Docket Numbers: ER20-391-004; ER14-41-005; ER14-42-005; ER16-498-004; ER16-499-004; ER16-500-004; ER20-547-004.

Applicants: J. Aron & Company LLC, RE Rosamond One LLC, RE Rosamond Two LLC, RE Mustang LLC, RE Mustang 3 LLC, RE Mustang 4 LLC, Goldman Sachs Renewable Power Marketing.

Description: Notice of Non-Material Change in Status of J. Aron & Company LLC, et al.

Filed Date: 1/4/21.

Accession Number: 20210104-5362.

Comments Due: 5 p.m. ET 1/25/21.

Docket Numbers: ER21-796-000.

Applicants: Horizon West Transmission, LLC.

Description: § 205(d) Rate Filing: Horizon West Transmission, LLC Revisions to Transmission Owner Tariff to be effective 1/1/2021.

Filed Date: 1/4/21.

Accession Number: 20210104-5107.

Comments Due: 5 p.m. ET 1/25/21.

Docket Numbers: ER21-797-000.

Applicants: PJM Interconnection, L.L.C.

Description: § 205(d) Rate Filing: Original ISA, SA No. 5869; Queue No. AE2-126 to be effective 12/3/2020.

Filed Date: 1/4/21.

Accession Number: 20210104-5144.

Comments Due: 5 p.m. ET 1/25/21.

Docket Numbers: ER21-798-000.

Applicants: Southwest Power Pool, Inc.

Description: § 205(d) Rate Filing: Revisions to Modify Section 8.6.5 of Attachment AE to be effective 8/5/2021.

Filed Date: 1/5/21.

Accession Number: 20210105-5010.

Comments Due: 5 p.m. ET 1/26/21.

Docket Numbers: ER21-799-000.

Applicants: Southwest Power Pool, Inc.

Description: § 205(d) Rate Filing: Evegy Companies Name Changes Clean-Up Filing to be effective 4/1/2021.

Filed Date: 1/5/21.

Accession Number: 20210105-5012.

Comments Due: 5 p.m. ET 1/26/21.

Docket Numbers: ER21-800-000.

Applicants: Southwest Power Pool, Inc.

Description: § 205(d) Rate Filing: Evergy Companies Name Changes—KCPL-GMO Formula Rate to be effective 4/1/2021.

Filed Date: 1/5/21.

Accession Number: 20210105-5013.

Comments Due: 5 p.m. ET 1/26/21.

Docket Numbers: ER21-801-000.

Applicants: Southwest Power Pool, Inc.

Description: § 205(d) Rate Filing: Evergy Companies Name Changes—KCPL Formula Rate to be effective 4/1/2021.

Filed Date: 1/5/21.

Accession Number: 20210105-5014.

Comments Due: 5 p.m. ET 1/26/21.

Docket Numbers: ER21-802-000.

Applicants: Southwest Power Pool, Inc.

Description: § 205(d) Rate Filing: Evergy Companies Name Changes—Westar Energy Formula Rate to be effective 4/1/2021.

Filed Date: 1/5/21.

Accession Number: 20210105-5015.

Comments Due: 5 p.m. ET 1/26/21.

Docket Numbers: ER21-803-000.

Applicants: Springfield Power, LLC.

Description: § 205(d) Rate Filing: Notice of Succession filing to be effective 1/16/2019.

Filed Date: 1/5/21.

Accession Number: 20210105-5017.

Comments Due: 5 p.m. ET 1/26/21.

Docket Numbers: ER21-804-000.

Applicants: DG Whitefield LLC.

Description: § 205(d) Rate Filing: Notice of Succession filing to be effective 1/6/2021.

Filed Date: 1/5/21.

Accession Number: 20210105-5018.

Comments Due: 5 p.m. ET 1/26/21.

Docket Numbers: ER21-805-000.

Applicants: Black Hills Power, Inc.

Description: § 205(d) Rate Filing: BHP—BH Wyoming GDEMA Revised Schedule B to be effective 3/7/2021.

Filed Date: 1/5/21.

Accession Number: 20210105-5029.

Comments Due: 5 p.m. ET 1/26/21.

Docket Numbers: ER21-806-000.

Applicants: Black Hills Power, Inc.

Description: § 205(d) Rate Filing: BHP—BHCE GDEMA Revised Schedule B to be effective 3/7/2021.

Filed Date: 1/5/21.

Accession Number: 20210105-5030.

Comments Due: 5 p.m. ET 1/26/21.

Docket Numbers: ER21-807-000.

Applicants: Black Hills Power, Inc.

Description: § 205(d) Rate Filing: BHP—CLFP GDEMA Revised Schedule B to be effective 3/7/2021.

Filed Date: 1/5/21.

Accession Number: 20210105-5031.

Comments Due: 5 p.m. ET 1/26/21.

Docket Numbers: ER21-808-000.

Applicants: Black Hills Power, Inc.

Description: § 205(d) Rate Filing: BHP—Gillette GDEMA Revised Schedule B to be effective 3/7/2021.

Filed Date: 1/5/21.

Accession Number: 20210105-5032.

Comments Due: 5 p.m. ET 1/26/21.

Docket Numbers: ER21-809-000.

Applicants: Black Hills Power, Inc.

Description: § 205(d) Rate Filing: BHP—MDU GDEMA Revised Schedule B to be effective 3/7/2021.

Filed Date: 1/5/21.

Accession Number: 20210105-5033.

Comments Due: 5 p.m. ET 1/26/21.

Docket Numbers: ER21-810-000.

Applicants: Midcontinent Independent System Operator, Inc.

Description: § 205(d) Rate Filing: 2021-01-05_SA 3289 Termination of Sugar River Wind—ATC GIA (J584) to be effective 12/28/2020.

Filed Date: 1/5/21.

Accession Number: 20210105-5035.

Comments Due: 5 p.m. ET 1/26/21.

Docket Numbers: ER21-811-000.

Applicants: Midcontinent Independent System Operator, Inc.

Description: § 205(d) Rate Filing: 2021-01-05_SA 3362 Termination of ATC-Quilt Block Wind Farm II GIA (J807) to be effective 8/24/2020.

Filed Date: 1/5/21.

Accession Number: 20210105-5036.

Comments Due: 5 p.m. ET 1/26/21.

Docket Numbers: ER21-812-000.

Applicants: Midcontinent Independent System Operator, Inc.

Description: § 205(d) Rate Filing: 2021-01-05_SA 3496 Termination of ATC-Shullsburg Wind Farm GIA (J819) to be effective 8/24/2020.

Filed Date: 1/5/21.

Accession Number: 20210105-5037.

Comments Due: 5 p.m. ET 1/26/21.

Docket Numbers: ER21-813-000.

Applicants: Midcontinent Independent System Operator, Inc.

Description: § 205(d) Rate Filing: 2021-01-05_SA 3363 Termination of ATC-Marathon Wind Farm GIA (J821) to be effective 8/24/2020.

Filed Date: 1/5/21.

Accession Number: 20210105-5038.

Comments Due: 5 p.m. ET 1/26/21.

Docket Numbers: ER21-814-000.

Applicants: Midcontinent Independent System Operator, Inc.

Description: § 205(d) Rate Filing: 2021-01-05_SA 3106 Termination of Dodge County Wind-SMMPA Substitute GIA (J441) to be effective 12/26/2019.

Filed Date: 1/5/21.

Accession Number: 20210105-5039.

Comments Due: 5 p.m. ET 1/26/21.

Docket Numbers: ER21-815-000.

Applicants: Tri-State Generation and Transmission Association, Inc.

Description: § 205(d) Rate Filing: Filing of Service Agreement No. 726 to be effective 12/30/2020.

Filed Date: 1/5/21.

Accession Number: 20210105-5040.

Comments Due: 5 p.m. ET 1/26/21.

Take notice that the Commission received the following electric securities filings:

Docket Numbers: ES21-21-000; ES21-22-000; ES21-23-000; ES21-24-000.

Applicants: Transource Maryland, LLC, Transource Missouri, LLC, Transource Pennsylvania, LLC, Transource West Virginia, LLC.

Description: Application Under Section 204 of the Federal Power Act for Authorization to Issue Securities for Transource Maryland, LLC, et al.

Filed Date: 1/4/21.

Accession Number: 20210104-5299.

Comments Due: 5 p.m. ET 1/25/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2021.
Nathaniel J. Davis, Sr.,
Deputy Secretary.

[FR Doc. 2021-00260 Filed 1-8-21; 8:45 am]

BILLING CODE 6717-01-P